DEPARTMENT OF HEALTH AND HUMAN SERVICES

National Institutes of Health

National Institute On Aging; Amended Notice of Meeting

Notice is hereby given of a change in the meeting of the National Institute on Aging Special Emphasis Panel, March 10, 2008, 7 a.m. to March 11, 2008, 5 p.m., Bethesda Marriott Suites, 6711 Democracy Boulevard, Bethesda, MD 20817 which was published in the Federal Register on February 4, 2008, 73 FR 6519.

Meeting will begin at 6 p.m. on March 10, 2008. The meeting is closed to the public.

Dated: February 21, 2008.
Jennifer Spaeth,
Director, Office of Federal Advisory Committee Policy.

[FR Doc. 08-907 Filed 2-29-08; 8:45 am]

BILLING CODE 4140-01-M